COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products to be furnished by nonprofit agencies employing persons who are blind or have other severe disabilities, and to delete products previously furnished by such agencies.

Comments Must be Received on or Before: November 20, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Additions: If the Committee approves the proposed additions, the entities of the Federal Government identified in this notice for each product will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List for production by the nonprofit agencies listed:

Products

Product/NSN: Folder, File, Hanging (GSA Global Supply ONLY)

NSN: 7530-01-316-1639—Letter size folders 1/5-cut tabs, assorted colors

NPA: L.C. Industries For The Blind, Inc., Durham, North Carolina

Contracting Activity: Office Supplies & Paper Products Acquisition Center, New York, NY

Product/NSN: Pad, Writing Paper (Repositionable) Neon Colors (GSA Global Supply ONLY)

NSN: 7530-01-393-0103—2″ x 3″ Assorted Neon Colors (Unruled)

NSN: 7530-01-286-5121—3″ x 4″ Yellow Color (Unruled)

NPA: Association for the Blind & Visually Impaired & Goodwill Industries of Greater Rochester, Rochester, New York.

Contracting Activity: Office Supplies & Paper Products Acquisition Center, New York, NY

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Brush, Wire, Scratch

NSN: 7920-00-246-8501—Brush, Wire, Scratch

NPA: Industries for the Blind, Inc., Milwaukee, Wisconsin

Contracting Activity: GSA, Southwest Supply Center, Fort Worth, Texas

Product/NSN: Carpet Concentrate

NSN: 7930-00-NIB-0341—H2Orange2 Crystal Carpet Concentrate

Product/NSN: Cleaner/Degreaser

NSN: 7930-00-NIB-0326—H2Orange2 Concentrate 117 Cleaner/Degreaser

Product/NSN: Grout Safe

NSN: 7930-00-NIB-0327—H2Orange2 Grout Safe

Product/NSN: Mineral Shock Cleaner

NSN: 7930-00-NIB-0353—H2Orange2 Mineral Shock Cleaner

Product/NSN: Spot Remover

NSN: 7930-00-NIB-0342—H2Orange2 Quick Spot Crystal Carpet Spot Remover

Product/NSN: Ultimate Cleaner/Degreaser

NSN: 7930-00-NIB-0163—H2Orange2 Ultimate Cleaner/Degreaser

NPA: Blind Industries & Services of Maryland, Baltimore, Maryland

Contracting Activity: Office Supplies & Paper Products Acquisition Center, New York, NY.

Product/NSN: Cloth, High Performance

NSN: 7920-01-482-6037—Cloth, High Performance

NSN: 7920-00-NIB-0397—Cloth, High Performance

NPA: L.C. Industries For The Blind, Inc., Durham, North Carolina

Contracting Activity: GSA, Southwest Supply Center, Fort Worth, Texas

Product/NSN: Label, Pressure-Sensitive Adhesive

NSN: 7530-00-007-2165—Label, Pressure-Sensitive Adhesive

NPA: North Central Sight Services, Inc., Williamsport, Pennsylvania

Contracting Activity: Office Supplies & Paper Products Acquisition Center, New York, NY.

Sheryl D. Kennerly,
Director, Information Management.

[FR Doc. E5-5800 Filed 10-20-05; 8:45 am]

BILLING CODE 6353-01-P